DEPARTMENT OF COMMERCE

International Trade Administration

[A-570-904]

Certain Activated Carbon From the People's Republic of China: Notice of Partial Rescission of Antidumping Duty Administrative Review; 2016-2017

AGENCY: Enforcement and Compliance, International Trade Administration, Department of Commerce.

SUMMARY: On June 7, 2017, the Department of Commerce (the Department) published a notice of initiation of an administrative review of the antidumping duty order on certain activated carbon from the People's Republic of China (PRC). Based on the timely withdrawal of the requests for review of certain companies, we are now rescinding this administrative review for the period April 1, 2016 through March 31, 2017, with respect to 184 companies.

DATES: Effective December 7, 2017.

FOR FURTHER INFORMATION CONTACT: John Anwesen or Jinny Ahn, AD/CVD Operations, Office VIII, Enforcement and Compliance, International Trade Administration, U.S. Department of Commerce, 1401 Constitution Avenue NW., Washington, DC 20230; telephone: (202) 482-0131 or (202) 482-0339, respectively.

SUPPLEMENTARY INFORMATION:

Background

On April 27, 2007, the Department published in the Federal Register the antidumping duty order on certain activated carbon from the PRC.¹ On April 3, 2017, the Department published a notice of opportunity to request an administrative review of the antidumping duty order on certain activated carbon from the PRC for the April 1, 2016, through March 31, 2017 period of review (POR).²

¹ Notice of Antidumping Duty Order: Certain Activated Carbon from the People's Republic of China, 72 FR 20988, dated April 27, 2017.

² See Antidumping or Countervailing Duty Order, Finding, or Suspended Investigation; Opportunity to Request Administrative Review, 82 FR 16163, dated April 3, 2017.

On April 14, 2017, Shanxi Sincere Industrial Co., Ltd. (Shanxi Sincere) requested a review of itself.³ On April 26, 2017, Tancarb Activated Carbon Co., Ltd. (Tancarb) requested a review of itself.⁴ On April 28, 2017, Calgon Carbon Corporation and Cabon Norit Americas Inc. (the petitioners) requested an administrative review of 207 companies; ⁵ Beijing Pacific Activated Carbon Products Co., Ltd. (Beijing Pacific) requested a review of itself; ⁶ and Carbon Activated Corporation (CA Corporation) requested reviews of Carbon Activated Tinanjin Co., Ltd. (CA Tianjin), Ningxia Mineral & Chemical Limited, Shanxi Sincere, Tancarb, and Tianjin Maijin Industries Co., Ltd.⁷ On May 1, 2017, Carbon Activated Tianjin Co., Ltd. (CA Tianjin),⁸ Datong Juqiang Activated Carbon Co., Ltd. (Datong Juqiang),⁹ Jilin Bright Future Chemicals Company, Ltd. (Jilin Bright Future),¹⁰ Ningxia Mineral & Chemical Lmited (Ningxia Mineral),¹¹ Shanxi Dapu International Trade Co., Ltd. (Shanxi Dapu),¹² Shanxi DMD Corporation (Shanxi DMD),¹³ and Shanxi Industry Technology Trading Co., Ltd. (Shanxi ITT),¹⁴ respectively, requested reviews of themselves individually.

³ See Shanxi Sincere's submission, “Certain Activated Carbon from the People's Republic of China Request for Administrative Review,” dated April 14, 2017.

⁴ See Tancarb's submission, “Activated Carbon from the People's Republic of China: Request for Administrative Review,” dated April 26, 2017.

⁵ See the petitioners' submission, “Certain Activated Carbon from the People's Republic of China—Petitioners' Request for Initiation of Tenth Administrative Review,” dated April 28, 2017 (Petitioners' Request for Review).

⁶ See Beijing Pacific's submission, “Activated Carbon from the People's Republic of China: Administrative Review Request,” dated April 28, 2107.

⁷ See CA Corporation's submission, “Activated Carbon from the People's Republic of China Request for Administrative Review,” dated April 28, 2017.

⁸ See CA Tianjin's submission, “Activated Carbon from the People's Republic of China Request for Administrative Review,” dated May 1, 2017.

⁹ See Datong Juqiang's submission, “Certain Activated Carbon from the People's Republic of China; Request for Antidumping Administrative Review,” dated May 1, 2017.

¹⁰ See Jilin Bright Future's submission, “Activated Carbon from the People's Republic of China Request for Antidumping Administrative Review,” dated May 1, 2017.

¹¹ See Ningxia Mineral's submission, “Activated Carbon from the People's Republic of China Request for Antidumping Administrative Review,” dated May 1, 2017.

¹² In the Initiation Notice, we listed both Shanxi Dapu International Co., Ltd. and Shanxi Dapu International Trade Co., Ltd. because both company names had been requested to be reviewed by various interested parties; however, the former name was a result of a typographical error in Shanxi Dapu's request for review and the correct name of the company for which a review was requested is Shanxi Dapu International Trade Co., Ltd. See Initiation of Antidumping and Countervailing Duty Administrative Reviews, 82 FR 26444 (June 7, 2017) (Initiation Notice); see also Petitioners' Request for Review and Shanxi Dapu's submission, “Activated Carbon from the People's Republic of China Request for Administrative Review,” dated May 1, 2017. We are continuing the review with respect to Shanxi Dapu International Trade Co., Ltd.

¹³ See Shanxi DMD's submission, “Activated Carbon from the People's Republic of China Request for Administrative Review,” dated May 1, 2017.

¹⁴ See Shanxi ITT's submission, ” Activated Carbon from the People's Republic of China Request for Administrative Review,” dated May 1, 2017.

On June 7, 2017, in accordance with section 751(a) of the Tariff Act of 1930, as amended (the Act) and 19 CFR 351.221(c)(1)(i), the Department published in the Federal Register notice of initiation of an administrative review of the order on certain activated carbon from the PRC with respect to 209 companies.¹⁵ On September 5, 2017, the petitioners withdrew their request for an administrative review for 185 companies.¹⁶ In the list of companies for which the petitioners withdrew their review request, Shanxi Dapu was the only company for which a party other than the petitioners had requested a review.

¹⁵ See Initiation Notice.

¹⁶ See the petitioners' submission, “10th Administrative Review of Certain Activated Carbon from the People's Republic of China—Petitioners' Withrdrawal of Certain Requests for Administrative Review,” dated September 5, 2017.

Partial Rescission of Review

Pursuant to 19 CFR 351.213(d)(1), the Department will rescind an administrative review, in whole or in part, if the party that requested the review withdraws its request within 90 days of the publication of the notice of initiation of the requested review. In this case, the petitioners timely withdrew their review request, in part, by the 90-day deadline. Out of the 185 companies for which the petitioners withdrew their review request, one company requested an administrative review of the antidumping duty order for itself. Therefore, we are rescinding the administrative review of the antidumping duty order on certain activated carbon from the PRC for the period April 1, 2016, through March 31, 2017, with respect to the 184 companies for which all review requests were withdrawn, in accordance with 19 CFR 351.213(d)(1). The review will continue with respect to the remaining 24 companies for which reviews were requested.¹⁷

¹⁷ For a list of these companies, see Attachment. Because in the Initiation Notice Shanxi Dapu was listed twice, the review will continue with respect to 24 companies—not 25.

Assessment

The Department will instruct U.S. Customs and Border Protection (CBP) to assess antidumping duties on all appropriate entries. For the companies for which this review is rescinded, antidumping duties shall be assessed at rates equal to the cash deposit of estimated antidumping duties required at the time of entry, or withdrawal from warehouse, for consumption, in accordance with 19 CFR 351.212(c)(1)(i). The Department intends to issue appropriate assessment instructions directly to CBP 15 days after publication of this notice.

Notification to Importers

This notice serves as a final reminder to importers of their responsibility under 19 CFR 351.402(f)(2) to file a certificate regarding the reimbursement of antidumping duties prior to liquidation of the relevant entries during this review period. Failure to comply with this requirement could result in the Department's presumption that reimbursement of the antidumping duties occurred and the subsequent assessment of doubled antidumping duties.

Notification Regarding Administrative Protective Orders

This notice also serves as a reminder to parties subject to administrative protective order (APO) of their responsibility concerning the disposition of proprietary information disclosed under APO in accordance with 19 CFR 351.305(a)(3). Timely written notification of the return or destruction of APO materials, or conversion to judicial protective order, is hereby requested. Failure to comply with the regulations and terms of an APO is a violation which is subject to sanction.

We intend to issue and publish this notice in accordance with sections 751(a)(1) and 777(i)(1) of the Act, and 19 CFR 351.213(d)(4).

Dated: December 4, 2017.
James Maeder,
Senior Director performing the duties of the Deputy Assistant Secretary for Antidumping and Countervailing Duty Operations.

Attachment

1. Beijing Embrace Technology Co., Ltd.

2. Beijing Pacific Activated Carbon Products Co., Ltd.

3. Carbon Activated Tianjin Co., Ltd.

4. Datong Juqiang Activated Carbon Co., Ltd.

5. Datong Municipal Yunguang Activated Carbon Co., Ltd.

6. Jacobi Carbons AB

7. Jilin Bright Future Chemicals Company, Ltd.

8. Meadwestvaco (China) Holding Co., Ltd.

9. Ningxia Guanghua A/C Co., Ltd.

10. Ningxia Guanghua Activated Carbon Co., Ltd.

11. Ningxia Guanghua Cherishmet Activated Carbon Co., Ltd.

12. Ningxia Huahui Activated Carbon Co., Ltd.

13. Ningxia Jirui Activated Carbon

14. Ningxia Mineral & Chemical Limited

15. Shanxi Dapu International Trade Co., Ltd.

16. Shanxi DMD Corporation

17. Shanxi Industry Technology Trading Co., Ltd.

18. Shanxi Sincere Industrial Co., Ltd.

19. Sinoacarbon International Trading Co, Ltd.

20. Tancarb Activated Carbon Co., Ltd.

21. Tangshan Solid Carbon Co., Ltd.

22. Tianjin Channel Filters Co., Ltd.

23. Tianjin Jacobi International Trading Co. Ltd.

24. Tianjin Maijin Industries Co., Ltd.

[FR Doc. 2017-26386 Filed 12-6-17; 8:45 am]

BILLING CODE 3510-DS-P